DEPARTMENT OF ENERGY

Federal Energy Regulatory Commission

Combined Notice of Filings #1

Take notice that the Commission received the following electric corporate filings:

Docket Numbers: EC14-132-000.

Applicants: Elkhorn Ridge Wind, LLC, Forward Windpower, LLC, Jeffers Wind 20, LLC, Lookout Windpower, LLC, San Juan Mesa Wind Project, LLC, Sleeping Bear, LLC, Wildorado Wind, LLC.

Description: Application for Authorization Under Section 203 of the FPA and Request for Expedited Action of Elkhorn Ridge Wind, LLC, et. al.

Filed Date: 9/4/14.

Accession Number: 20140904-5083.

Comments Due: 5 p.m. ET 9/25/14.

Take notice that the Commission received the following exempt wholesale generator filings:

Docket Numbers: EG14-92-000.

Applicants: Origin Wind Energy, LLC.

Description: Self-Certification of EG or FC of Origin Wind Energy, LLC.

Filed Date: 9/4/14.

Accession Number: 20140904-5183.

Comments Due: 5 p.m. ET 9/25/14.

Take notice that the Commission received the following electric rate filings:

Docket Numbers: ER10-2870-004; ER10-2868-003; ER10-2853-003; ER10-2856-003; ER10-2872-003; ER10-2860-004; ER10-2865-004.

Applicants: TransCanada Power Marketing Ltd, TransCanada Hydro Northeast Inc., TransCanada Maine Wind Development Inc., Ocean State Power, Ocean State Power II,TC Ravenswood, LLC.

Description: Amendment to July 27, 2014 Updated Market Power Analysis for the Northeast Region of TransCanada Entities.

Filed Date: 9/4/14.

Accession Number: 20140904-5093.

Comments Due: 5 p.m. ET 9/25/14.

Docket Numbers: ER14-2443-002.

Applicants: Carr Street Generating Station, L.P.

Description: Tariff Amendment per 35.17(b): Carr Street MBR Tariff to be effective 9/4/2014.

Filed Date: 9/3/14.

Accession Number: 20140903-5142.

Comments Due: 5 p.m. ET 9/24/14.

Docket Numbers: ER14-2472-001.

Applicants: Agera Energy LLC.

Description: Tariff Amendment per 35.17(b): Amendment to 1 to be effective 7/23/2014.

Filed Date: 9/3/14.

Accession Number: 20140903-5155.

Comments Due: 5 p.m. ET 9/24/14.

Docket Numbers: ER14-2520-001.

Applicants: NorthWestern Corporation.

Description: Tariff Amendment per 35.17(b): Amendment of Pending Tariff Filing—LGIP Appendices 1 and 2 to be effective 9/27/2014.

Filed Date: 9/4/14.

Accession Number: 20140904-5003.

Comments Due: 5 p.m. ET 9/25/14.

Docket Numbers: ER14-2672-001.

Applicants: EDF Energy Services, LLC.

Description: Tariff Amendment per 35.17(b): MBR Revised Tariff to be effective 9/4/2014.

Filed Date: 9/3/14.

Accession Number: 20140903-5158.

Comments Due: 5 p.m. ET 9/17/14.

Docket Numbers: ER14-2764-000.

Applicants: Otter Tail Power Company.

Description: § 205(d) rate filing per 35.13(a)(2)(iii): Filing of Certificate of Concurrence—TCEA to be effective 8/1/2014.

Filed Date: 9/3/14.

Accession Number: 20140903-5157.

Comments Due: 5 p.m. ET 9/24/14.

Docket Numbers: ER14-2765-000.

Applicants: Otter Tail Power Company.

Description: § 205(d) rate filing per 35.13(a)(2)(iii): Filing of Certificate of Concurrence—OMA to be effective 8/1/2014.

Filed Date: 9/3/14.

Accession Number: 20140903-5159.

Comments Due: 5 p.m. ET 9/24/14.

Docket Numbers: ER14-2766-000.

Applicants: Otter Tail Power Company.

Description: § 205(d) rate filing per 35.13(a)(2)(iii): Filing of Certificate of Concurrence—CMA to be effective 8/1/2014.

Filed Date: 9/3/14.

Accession Number: 20140903-5160.

Comments Due: 5 p.m. ET 9/24/14.

Docket Numbers: ER14-2767-000.

Applicants: Southern California Edison Company.

Description: § 205(d) rate filing per 35.13(a)(2)(iii): GIA & Distribution Service Agreement for Windstream 6040 Project to be effective 8/31/2014.

Filed Date: 9/4/14.

Accession Number: 20140904-5001.

Comments Due: 5 p.m. ET 9/25/14.

Docket Numbers: ER14-2768-000.

Applicants: Southern California Edison Company.

Description: § 205(d) rate filing per 35.13(a)(2)(iii): GIA and Distribution Service Agreement with United States Air Force to be effective 9/5/2014.

Filed Date: 9/4/14.

Accession Number: 20140904-5002.

Comments Due: 5 p.m. ET 9/25/14.

Docket Numbers: ER14-2769-000.

Applicants: Southern California Edison Company.

Description: § 205(d) rate filing per 35.13(a)(2)(iii): Distribution Service Agreement with Windhub Solar, LLC. to be effective 11/4/2014.

Filed Date: 9/4/14.

Accession Number: 20140904-5007.

Comments Due: 5 p.m. ET 9/25/14.

Docket Numbers: ER14-2770-000.

Applicants: Southwest Power Pool, Inc.

Description: § 205(d) rate filing per 35.13(a)(2)(iii): Substitute Original 2893 Steele Flats Wind Project, LLC GIA to be effective 5/23/2014.

Filed Date: 9/4/14.

Accession Number: 20140904-5077.

Comments Due: 5 p.m. ET 9/25/14.

Docket Numbers: ER14-2771-000.

Applicants: Massachusetts Municipal Wholesale Electric Company.

Description: Request for Issuance of Expedited Waiver of New Capacity Qualification “Package” Deadline for the Ninth Forward Capacity Auction of Massachusetts Municipal Wholesale Electric Company.

Filed Date: 9/4/14.

Accession Number: 20140904-5085.

Comments Due: 5 p.m. ET 9/15/14.

Docket Numbers: ER14-2772-000.

Applicants: PPL EnergyPlus, LLC.

Description: Tariff Withdrawal per 35.15: Notice of Cancellation of Addendum to Hourly Coordination Agreement to be effective 9/5/2014.

Filed Date: 9/4/14.

Accession Number: 20140904-5105.

Comments Due: 5 p.m. ET 9/25/14.

Docket Numbers: ER14-2773-000.

Applicants: Pacific Gas and Electric Company.

Description: Notice of Termination of Two Small Generator Interconnection Agreements for Lincoln Solar Millennium Fund, LLC, Service Agreement Nos. 248 and 259 of Pacific Gas and Electric Company.

Filed Date: 9/4/14.

Accession Number: 20140904-5118.

Comments Due: 5 p.m. ET 9/25/14.

Docket Numbers: ER14-2774-000.

Applicants: Pacific Gas and Electric Company.

Description: Notice of Termination of Small Generator Interconnection Agreement for NNN Land and Energy, LLC, Service Agreement No. 261 of Pacific Gas and Electric Company.

Filed Date: 9/4/14.

Accession Number: 20140904-5122.

Comments Due: 5 p.m. ET 9/25/14.

Docket Numbers: ER14-2775-000.

Applicants: The Dayton Power and Light Company.

Description: Tariff Withdrawal per 35.15: FERC Rate Schedule No. 42, Village of Arcanum to be effective 12/31/2014.

Filed Date: 9/4/14.

Accession Number: 20140904-5175.

Comments Due: 5 p.m. ET 9/25/14.

Docket Numbers: ER14-2776-000.

Applicants: The Dayton Power and Light Company.

Description: Tariff Withdrawal per 35.15: FERC Rate Schedule No. 49, Village of Eldorado to be effective 12/31/2014.

Filed Date: 9/4/14.

Accession Number: 20140904-5184.

Comments Due: 5 p.m. ET 9/25/14.

Docket Numbers: ER14-2777-000.

Applicants: The Dayton Power and Light Company.

Description: Tariff Withdrawal per 35.15: FERC Rate Schedule No. 43, Village of Jackson Center to be effective 12/31/2014.

Filed Date: 9/4/14.

Accession Number: 20140904-5185.

Comments Due: 5 p.m. ET 9/25/14.

Docket Numbers: ER14-2778-000.

Applicants: The Dayton Power and Light Company.

Description: Tariff Withdrawal per 35.15: FERC Rate Schedule No. 44, Village of Lakeview to be effective 12/31/2014.

Filed Date: 9/4/14.

Accession Number: 20140904-5186.

Comments Due: 5 p.m. ET 9/25/14.

Docket Numbers: ER14-2779-000.

Applicants: The Dayton Power and Light Company.

Description: Tariff Withdrawal per 35.15: FERC Rate Schedule No. 45, Village of Mendon to be effective 12/31/2014.

Filed Date: 9/4/14.

Accession Number: 20140904-5187.

Comments Due: 5 p.m. ET 9/25/14.

Docket Numbers: ER14-2780-000.

Applicants: The Dayton Power and Light Company.

Description: Tariff Withdrawal per 35.15: FERC Rate Schedule No. 50, Village of Minster to be effective 12/31/2014.

Filed Date: 9/4/14.

Accession Number: 20140904-5188.

Comments Due: 5 p.m. ET 9/25/14.

Docket Numbers: ER14-2781-000.

Applicants: The Dayton Power and Light Company.

Description: Tariff Withdrawal per 35.15: FERC Rate Schedule No. 46, Village of New Bremen to be effective 12/31/2014.

Filed Date: 9/4/14.

Accession Number: 20140904-5191.

Comments Due: 5 p.m. ET 9/25/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 4, 2014.
Nathaniel J. Davis, Sr.,
Deputy Secretary.

[FR Doc. 2014-21803 Filed 9-11-14; 8:45 am]

BILLING CODE 6717-01-P